DEPARTMENT OF AGRICULTURE

Commodity Credit Corporation

7 CFR Part 1446

RIN 0560-AF56

Cleaning and Reinspection of Farmers Stock Peanuts; Correction

AGENCY: Commodity Credit Corporation, USDA.

ACTION: Correction to final regulations.

SUMMARY: This document corrects final peanut price support regulations which were published on Wednesday, January 10, 2001 (66 FR 1807).

DATES: Effective February 15, 2001.

FOR FURTHER INFORMATION CONTACT: David Kincannon, (202) 720-7914.

SUPPLEMENTARY INFORMATION:

Background and Need for Correction

Amendments published on January 10, 2001, to the peanut price support regulations contained in 7 CFR part 1446 related to Segregation 3 peanuts and other aspects of the peanut support program. However, one of those amendments erroneously purported to amend “1444.307” rather than “1446.307.” That error is hereby corrected. 7 CFR 1446.307 was the section which was the intended site of the amendment; 7 CFR 1444.307 does not exist.

Correction of Publication

Accordingly, the publication of January 10, 2001 (66 FR 1807) of the final regulations applicable to 7 CFR part 1446 is corrected as follows:

On page 1810, in the first column, in the heading and amendatory language of the first sentence of the last paragraph (item 4), the two references to “1444.307” are corrected to read “1446.307”.

Signed at Washington, DC, on February 9, 2001.
James R. Little,
Acting Executive Vice President, Commodity Credit Corporation.

[FR Doc. 01-3838 Filed 2-14-01; 8:45 am]

BILLING CODE 3410-05-P